ENVIRONMENTAL PROTECTION AGENCY

[ER-FRL-6653-6]

Environmental Impact Statements; Notice of Availability

Responsible Agency: Office of Federal Activities, General Information (202) 564-7167 or http://www.epa.gov/compliance/nepa/. Weekly receipt of Environmental Impact Statements Filed July 5, 2004 Through July 9, 2004 Pursuant to 40 CFR 1506.9.

EIS No. 040316, DRAFT EIS, AFS, NM, Invasive Plant Control Project, To Protect the Abundance and Biological Diversity of Desired Native Plant, Carson National Forest and Santa Fe National Forest, Rio Arriba, Colfax, Los Alamos, Mora and San Miguel Counties, NM, Due: August 30, 2004, Contact: Sanford Hurlocker (505) 753-7331.

EIS No. 040317, FINAL EIS, FHW, MD, MD-97, Brookeville Project Improvements and Preservation, South of Gold Mine Road to North of Holliday Drive, Funding and U.S. Army Corps of Engineers Section 10 and 404 Permits Issuance, Montgomery County, MD, Due: August 16, 2004, Contact: Denise W. King (410) 779-7145.

EIS No. 040318, FINAL EIS, AFS, MT, Lower Big Creek Project, To Implement Timber Harvest and Prescribed Burning, Kootenai National Forest Plan, Rexford Ranger District, Lincoln County, MT, Due: August 16, 2004, Contact: Ron Komac (406) 296-2536.

EIS No. 040319, FINAL EIS, FHW, UT, I-15, 31st Street in Ogden to 2700 North in Farr West, Reconstruction, Widening and Interchange Improvements, Funding and U.S. Army COE Section 404 Permit, Weber County, UT, Due: August 16, 2004, Contact: Sandra Garcia (801) 963-0182.

EIS No. 040320, DRAFT EIS, NOA, ME, MA, RI, NH, CT, Atlantic Herring Fishery Management Plan, Minimizing Impacts on Essential Fish Habitat of Any Species, Gulf of Maine—Georges Bank, ME, NH, MA, CT and RI, Due: October 13, 2004, Contact: Peter D. Colosi (978) 281-3332. This document is available on the Internet at: http://www.nero.noaa.gov/nero/.

EIS No. 040321, DRAFT EIS, AFS, MT, Gallatin National Forest Noxious and Invasive Weed Control Project, To Prevent and Reduce Loss of Native Plant, Bozeman, Carbon, Madison, Gallatin, Meagher, Park, and Sweet Grass Counties, MT, Due: August 30, 2004, Contact: Susan LaMont (406) 832-6976.

This document is available on the Internet at: http://www.fs.fed.us/r1/gallatin/index.php?page=projects.weed_control.

EIS No. 040322, DRAFT EIS, BLM, CA, Clear Creek Resource Management Area Plan Amendment, Hollister Resource Management Plan, Implementing the Decision Made in the 1999 CCMA ROD, San Benito and Fresno Counties, CA, Due: October 15, 2004, Contact: Robert Beehler (831) 630-5000. This document is available on the Internet at: http//www.ca.blm.gov/hollister.

EIS No. 040323, DRAFT EIS, COE, CA, Matilija Dam Ecosystem Restoration Feasibility Study, Restoring Anadromous Fish Populations, Matilija Creek, Ventura River, Ventura County Watershed Protection District, Ventura County, CA, Due: August 30, 2004, Contact: Chris Serjak (213) 452-3865.

EIS No. 040324, DRAFT EIS, BIA, WY, Wind River Natural Gas Field Development Project, Construction, Drilling and Production Operation of Natural Gas Wells, Fremont County, WY, Due: August 30, 2004, Contact: Ray A. Nation (307) 332-3718.

EIS No. 040325, FINAL EIS, BLM, WY, Jack Morrow Hills Coordinated Activity Plan, Implementation, Rock Springs, Portion of Sweetwater, Fremont and Subelette Counties, WY, Due: August 16, 2004, Contact: Renee Dana (307) 352-0256.

This document is available on the Internet at: http://www.wy.blm.gov/jmhcap.

EIS No. 040326, FINAL EIS, BLM, NV, Tracy to Silver Lake Transmission Line Project, Construction, Operation and Maintenance of a 120kV Transmission Line from Tracy Power Plant to New Substations in the Spanish Spring Valley and Stead Areas, Right-of-Way Application, Washoe County, NV, Due: August 16, 2004, Contact: Terri Knutson (775) 885-6156.

This document is available on the Internet at: http://www.nv.blm.gov.

EIS No. 040327, FINAL EIS, AFS, UT, Trout Slope West Timber Project, Harvesting Timber, Ashley National Forest, Vernal Ranger District, Uintah County, UT, Due: August 16, 2004, Contact: Jeff Underhill (435) 781-5174.

Amended Notices

EIS No. 040144, DRAFT EIS, AFS, NV, Martin Basin Rangeland Project, Authorize Continued Livestock Grazing in Eight Allotments: Martin Basin, Indian, West Side Flat Creek, Buffalo, Bradshaw, Buttermilk, Granite Peak and Rebel Creek Cattle and Horse Allotments, Humboldt-Toiyabe National Forest, Santa Rosa Ranger District, Humboldt County, NV, Due: August 16, 2004, Contact: Steve Williams (775) 623-5025. Ext. 112 Published FR -04-02-04—Review Period Reopened, From 07-01-2004 to 08-16-2004.

Dated: July 13, 2004.
Ken Mittleholtz,
Environmental Protection Agency, Office of Federal Activities.

[FR Doc. 04-16210 Filed 7-15-04; 8:45 am]

BILLING CODE 6560-50-P